DEPARTMENT OF EDUCATION

National Assessment Governing Board

Committee and Quarterly Board Meetings

AGENCY: National Assessment Governing Board, Department of Education.

ACTION: Notice of open and closed meetings.

SUMMARY: This notice sets forth the agenda, time, and instructions to access the National Assessment Governing Board's (hereafter referred to as the Board or Governing Board) standing committee meetings and quarterly Governing Board meeting. This notice provides information to members of the public who may be interested in attending the meetings and/or providing written comments related to the work of the Governing Board. The meetings will be held in person and virtually for Board members. Members of the public may attend virtually and must register in advance to attend, as noted below. A registration link will be posted on the Governing Board's website, www.nagb.gov, five (5) business days prior to each meeting.

DATES: The Quarterly Board Meeting will be held on the following dates:

• May 15, 2025, from 8 a.m. to 6 p.m., ET

• May 16, 2025, from 9 a.m. to 12 p.m., ET

ADDRESSES: Lyndon Baines Johnson (LBJ) Department of Education Building, 400 Maryland Avenue SW, Washington, DC 20202.

FOR FURTHER INFORMATION CONTACT: Angela Scott, Designated Federal Officer (DFO) for the Governing Board, 400 Maryland Avenue SW, Washington, DC 20202, telephone: (202) 245-6234, email: Angela.Scott@ed.gov.

SUPPLEMENTARY INFORMATION:

Statutory Authority and Function: The Governing Board is established under the National Assessment of Educational Progress Authorization Act (20 U.S.C. 9621). Information on the Governing Board and its work can be found at www.nagb.gov. Notice of the meetings is required under section 1009(a)(2) of 5 U.S.C. chapter 10 (commonly known as the Federal Advisory Committee Act). The Governing Board formulates policy for the National Assessment of Educational Progress (NAEP) administered by the National Center for Education Statistics (NCES). The Governing Board's responsibilities include:

(1) selecting the subject areas to be assessed; (2) developing appropriate student achievement levels; (3) developing assessment objectives and testing specifications that produce an assessment that is valid and reliable, and are based on relevant widely accepted professional standards; (4) developing a process for review of the assessment which includes the active participation of teachers, curriculum specialists, local school administrators, parents, and concerned members of the public; (5) designing the methodology of the assessment to ensure that assessment items are valid and reliable, in consultation with appropriate technical experts in measurement and assessment, content and subject matter, sampling, and other technical experts who engage in large scale surveys; (6) measuring student academic achievement in grades 4, 8, and 12 in the authorized academic subjects; (7) developing guidelines for reporting and disseminating results; (8) developing standards and procedures for regional and national comparisons; (9) taking appropriate actions needed to improve the form, content use, and reporting of results of an assessment; and (10) planning and executing the initial public release of NAEP results.

Standing Committee Meetings

The Governing Board's standing committees will meet to conduct regularly scheduled work. Standing committee meeting agendas and meeting materials will be posted on the Governing Board's website, www.nagb.gov, no later than five (5) business days prior to the meetings. Minutes of prior standing committee meetings are available at https://www.nagb.gov/governing-board/quarterly-board-meetings.html.

Standing Committee Meetings

Friday, May 9, 2025

Reporting and Dissemination Committee (Virtual)

2:45 p.m.-4:15 p.m. (ET), Open Session

The Reporting and Dissemination Committee will meet on Friday, May 9, 2025, in open session from 2:45 p.m. to 4:15 p.m. The committee will receive an update on Strategic Communications and discuss the release plan for the 2024 NAEP Science results.

Thursday, May 15, 2025

Executive Committee (Hybrid)

8 a.m.-9 a.m. (ET), Closed Session

The Executive Committee will meet in closed session on Thursday, May 15, 2025, from 8 a.m. to 9 a.m. to receive updates from the Executive Director on Board priorities and key activities and discuss the NAEP budget and contracts. The session must be closed to the public because the discussions pertain to the federal budget and acquisition process. Public disclosure of this confidential information would significantly impede implementation of the NAEP assessment program if conducted in open session. Such matters are protected by exemption 9(B) of the Government in the Sunshine Act, 5 U.S.C. 552b.

Friday, May 16, 2025

Assessment Development Committee (Hybrid)

9 a.m.-11:30 a.m. (ET), Closed Session

The Assessment Development Committee will meet in closed session on Friday, May 16, 2025, from 9 a.m. to 11:30 a.m. to review items for the 2026 Reading and Mathematics assessment. This review must be conducted in closed session because the content includes assessment items that have not been released to the public. Public disclosure of this information would significantly impede the implementation of the NAEP assessment program if conducted in open session. Such matters are protected by exemption 9(B) of the Government in the Sunshine Act, 5 U.S.C. 552b.

Committee on Standards, Design and Methodology (Hybrid)

9 a.m.-9:05 a.m. (ET), Open Session

9:05 a.m.-10:15 a.m. (ET), Closed Session

10:15 a.m.-11 a.m. (ET), Open Session

The Committee on Standards, Design and Methodology will meet on Friday, May 16, 2025, from 9 a.m. to 11:00 a.m. The committee chair will open the meeting and provide updates from 9 a.m. to 9:05 a.m. The committee will meet in closed session from 9:05 a.m. to 10:15 a.m. to receive information and discuss the NAEP Bridge Studies: Science and Grade 12. This session must be closed because the data has not been shared with the public. Disclosure of this confidential information would significantly impede implementation of the NAEP assessment program if conducted in open session. Such matters are protected by exemption 9(B) of the Government in the Sunshine Act, 5 U.S.C. 552b. The committee will transition to open session, which will be held from 10:15 a.m. to 11 a.m. to receive updates and provide feedback on methodology for updating Reporting Achievement Level Descriptions.

Quarterly Governing Board Meeting

The plenary sessions of the Governing Board's May 2025 quarterly meeting will be held on the following dates and times:

Thursday, May 15, 2025

9:05 a.m.-6 p.m. (ET) (Hybrid Meeting)

9:05 a.m.-10:45 a.m. (ET), Open Session

10:45 a.m.-5 p.m. (ET), Closed Session

5 p.m.-6 p.m. (ET) Open Session

On Thursday, May 15, 2025, the plenary session of the quarterly Governing Board meeting will convene in open session from 9:05 a.m. to 10:45 a.m., in closed session from 10:45 a.m. to 5 p.m., and in open session from 5-6 p.m. From 9:05 a.m. to 9:15 a.m., Beverly Perdue, Chair of the Governing Board, will welcome members, make remarks, review and approve the May 15-16, 2025, quarterly Governing Board meeting agenda, and approve the minutes from the March 6, 2025, Governing Board meeting.

From 9:15 a.m. to 9:30 a.m., Lesley Muldoon, Governing Board Executive Director, will provide updates on the Board's work and priorities. Representatives from the Council of Chief State School Officers (CCSSO) and the Council of the Great City Schools will discuss the work of the task forces the Board leads jointly with them—State Policy Task Force and Trial Urban District Assessment (TUDA) Task Force respectively—from 9:30 a.m. to 10:30 a.m. Following a fifteen-minute transitional break, the Board will meet in closed session from 10:45 a.m. to 12 p.m. to receive an update on the NAEP Budget and Contracting from IES Director, Matt Soldner, and NCES Director for Strategic Partnerships, Gina Broxterman. The Board will continue in closed session from 12:15 p.m. to 3:30 p.m., to discuss the NAEP Budget and Contracting. From 3:45 p.m. to 5 p.m. the Board will receive an embargoed briefing on the 2024 NAEP Science Results. These sessions must be closed because they will include information on the budget and the federal acquisition process and embargoed assessment results, both of which cannot be released to the public at this time. Public disclosure of this confidential information would significantly impede implementation of the NAEP assessment program if conducted in open session. Such matters are protected by exemption 9(B) of the Government Sunshine Act, 5 U.S.C. 552b.

Following a short transitional break, the Board will convene in open session from 5:15 p.m. to 5:45 p.m. to discuss topics of interest raised by members. From 5:45 p.m. to 6 p.m., the Board will discuss and take action on the release plan for 2024 NAEP Science. The Thursday, May 15, 2024, session of the Governing Board meeting will adjourn at 6 p.m.

Instructions for Accessing and Attending the Meetings

Registration: Members of the public may attend the May 15-16, 2024, meetings of the full Governing Board and standing committee meetings virtually. A link to the final meeting agenda and information on how to register for virtual attendance for the open sessions will be posted on the Governing Board's website, www.nagb.gov, no later than five (5) business days prior to the meeting. Registration is required to join the meeting virtually.

Public Comment: Written comments related to the work of the Governing Board and its standing committees may be submitted to the attention of the DFO, either via email to Angela.Scott@ed.gov or in hard copy to the address listed above. Written comments related to the May 15-16, 2025 Governing Board meeting should be submitted no later than close of business on May 8, 2025, and should reference the relevant agenda item.

Access to Records of the Meeting: Pursuant to 5 U.S.C. 1009, the public may inspect the meeting materials and other Governing Board records at 400 Maryland Avenue SW, Washington, DC 20202, by emailing Angela.Scott@ed.gov to schedule an appointment. The official verbatim transcripts of the open meeting sessions will be available for public inspection no later than 30 calendar days following each meeting. Requests for the verbatim transcriptions may be made via email to the DFO.

Reasonable Accommodations: The meeting location is accessible to individuals with disabilities. If you will need an auxiliary aid or service to participate in the meeting (e.g., interpreting service, assistive listening device, or materials in an alternate format), notify the DFO listed in this notice by close of business on May 8, 2025.

Electronic Access to this Document: The official version of this document is published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Pub. L. 107-279, title III, section 301—National Assessment of Educational Progress Authorization Act (20 U.S.C. 9621).

Lesley Muldoon,
Executive Director, National Assessment Governing Board (NAGB), U.S. Department of Education.

[FR Doc. 2025-07481 Filed 4-29-25; 8:45 am]

BILLING CODE 4000-01-P